DEPARTMENT OF TRANSPORTATION

Federal Aviation Administration

Safety Oversight and Certification Advisory Committee; Meeting

AGENCY: Federal Aviation Administration (FAA), DOT.

ACTION: Notice of Safety Oversight and Certification Advisory Committee (SOCAC) meeting.

SUMMARY: This notice announces a meeting of the SOCAC.

DATES: The meeting will be held on December 1, 2020, from 1:00 p.m. to 3:00 p.m. Eastern Standard Time.

Requests to attend the meeting must be received by November 18, 2020.

Requests for accommodations to a disability must be received by November 21, 2020.

Requests to submit written materials to be reviewed during the meeting must be received no later than November 18, 2020.

ADDRESSES: The meeting will be held virtually. Members of the public who wish to observe the meeting must RSVP by emailing 9-awa-arm-socac@faa.gov. Information on the committee and copies of the meeting minutes will be available on the FAA Committee website at https://www.faa.gov/regulations_policies/rulemaking/committees/documents/.

FOR FURTHER INFORMATION CONTACT: Thuy H. Cooper, Federal Aviation Administration, 800 Independence Avenue SW, Washington, DC 20591, telephone (202) 267-4715; email 9-awa-arm-socac@faa.gov. Any committee-related request should be sent to the person listed in this section.

SUPPLEMENTARY INFORMATION:

I. Background

The SOCAC was created under the Federal Advisory Committee Act (FACA), in accordance with the FAA Reauthorization Act of 2018 (Pub. L. 115-254) to provide advice to the Secretary on policy-level issues facing the aviation community that are related to FAA safety oversight and certification programs and activities.

II. Agenda

At the meeting, the agenda will cover the following topics:

• Review and Acceptance of September 2020 Minutes

• Update on Tasking

• FAA Updates

Detailed agenda information will be posted on the committee's website listed in the ADDRESSES section at least one week in advance of the meeting.

III. Public Participation

The meeting will be open to the public on a first-come, first served basis. Please confirm your attendance with the person listed in the FOR FURTHER INFORMATION CONTACT section. Please provide the following information: full legal name, country of citizenship, and name of your industry association or applicable affiliation. The FAA will email registrants the meeting access information at least 48 hours prior to the meeting.

The U.S. Department of Transportation is committed to providing equal access to this meeting for all participants. If you need alternative formats or services because of a disability, such as sign language, interpretation, or other ancillary aids, please contact the person listed in the FOR FURTHER INFORMATION CONTACT section.

The FAA is not accepting oral presentations at this meeting due to time constraints. Any member of the public may present a written statement to the committee at any time by providing a copy to the Designated Federal Officer via the email listed in the FOR FURTHER INFORMATION CONTACT section.

Issued in Washington, DC, on October 30, 2020.
Brandon Roberts,
Executive Director, Office of Rulemaking.

[FR Doc. 2020-24557 Filed 11-4-20; 8:45 am]

BILLING CODE 4910-13-P